DEPARTMENT OF TRANSPORTATION

Office of the Secretary

[Docket No. OST-2005-21178]

Notice of Request for Approval of a New Collection

AGENCY: Office of the Secretary, DOT.

ACTION: Notice.

SUMMARY: In accordance with the Paperwork Reduction Act of 1995, this notice announces the Department of Transportation's (DOT) intention to request the approval of a new information collection.

DATES: Comments on this notice must be received by August 1, 2005.

ADDRESSES: You may submit comments identified by DOT DMS Docket Number OST-2005-21178 by any of the following methods:

• Web site: http://dms.dot.gov. Follow the instructions for submitting comments to the DOT electronic docket site.

Fax: 1-202-493-2251.

Mail: Docket Management Facility; U.S. Department of Transportation, 400 Seventh Street, SW., Nassif Building, Room PL-401, Washington, DC 20590-001.

Hand Delivery: Room PL-401 on the plaza level of the Nassif Building, 400 Seventh Street, SW., Washington DC, between 9 a.m. and 5 p.m., Monday thru Friday, except on Federal holidays.

Federal eRulemaking Portal: Go to http://www.regulations.gov. Follow the online instructions for submitting comments.

Instructions: All submissions must include the agency name and docket number or Regulatory Identification Number (RIN) for this rulemaking. For detailed instructions on submitting comments and additional information on the rulemaking process, see the “Comments are invited” heading of the Supplementary Information section of this document. Note that all comments received will be posted without change to http://dms.dot.gov including any personal information provided. Please see the Privacy Act heading under Regulatory Notes.

Docket: For access to the docket to read background documents or comments received, go to http://dms.dot.gov at any time or to Room PL-401 on the plaza level of the Nassif Building, 400 Seventh Street, SW., Washington DC, between 9 a.m. and 5 p.m., Monday through Friday, except Federal holidays.

FOR FURTHER INFORMATION CONTACT: Deborah Perkins, Departmental Office of Human Resources, Office of the Secretary, U.S. Department of Transportation, 400 Seventh Street, SW., Washington DC 20590 (202) 366-9447.

SUPPLEMENTARY INFORMATION: Title: Applicant Background Questionnaire.

OMB Control Number: Pending.

Type of Request: Authorization for a new form.

Abstract: The Department of Transportation (DOT) is required to collect information from both applicants and Departmental employees on their disability status, race and national origin affiliation. Additionally, this form will be used to ask applicants for employment how they learned about a vacancy to ensure that recruitment sources yield qualified women and minority applicants, as well as applicants with disabilities, in compliance with Equal Employment Opportunity Commission (EEOC) management directives.

Abstract: The purpose of the collection is to standardize the collection of race, ethnicity, sex, national origin, and disability status for all DOT Operating Administrations. When established, this information will assist the DOT in monitoring programs and will be the basis for several different reports required by statute.

Background: The DOT is required to analyze the civil rights impact(s) of policies, actions, or decisions that affect federally conducted programs and activities and the DOT workforce. In order to assess the civil rights impact, data on recruitment, employment, and diversity must be analyzed in a consistent manner with respect to the race, ethnicity, sex, national origin, disability status, and age of applicants and employees. Currently, no uniform method of reporting and tabulating race and ethnicity data exits in the DOT. There are 10 Operating Administrations providing employee information through a centralized system as well as an Executive Agent collecting selected applicant data through an automated staffing system. The collection of data is necessary to provide each Operating Administration, and the DOT as a whole, with the composition of its workforce particularly from a race, ethnicity, and disability standpoint. Further, data is necessary to give DOT a baseline on its applicants and assist it in planning recruitment and outreach efforts.

The goal of a comprehensive DOT collection of race, ethnicity, sex, national origin, and disability status is to reduce the burden on applicants and employees to provide this type of information by creating a single voluntary survey where the data is collected in a standard format.

Respondents: Employees upon initial hire and applicants for positions.

Estimated Number of Respondents: 120,000.

Estimated Total Burden on Respondents: 3 minutes.

Comments are invited on (a) Whether the proposed collection of information is necessary for the proper performance of the functions of the Department, including whether the information will have practical utility as described; (b) the accuracy of the Department's estimate of burden of the proposed collection of information, including the validity of methodology and assumptions used; (c) ways to enhance the quality, utility, and clarity of the information to be collected; and (d) ways to minimize the burden of the collection of information on those who are to respond, including the use of appropriate, automated, electronic, mechanical or other technology. Comments should be addressed to the address in the preamble. All responses to this notice will be summarized and included in the request for Office of Management and Budget (OMB) approval. All comments will also become a matter of public record.

Issued in Washington, DC on May 25, 2005.
Patricia A. Prosperi,
Director, Departmental Office of Human Resource Management.

BILLING CODE 4910-62-P

[FR Doc. 05-10997 Filed 6-1-05; 8:45 am]

BILLING CODE 4910-62-C